SOCIAL SECURITY ADMINISTRATION

[Docket No. SSA-2007-0062]

Privacy Act of 1974, as Amended; Computer Matching Program (SSA/Department of Health and Human Services, Administration for Children and Families, Office of Child Support Enforcement (HHS/ACF/OCSE)—Match Number 1306

AGENCY: Social Security Administration (SSA).

ACTION: Notice of the renewal of an existing computer matching program which is scheduled to expire on October 1, 2007.

SUMMARY: In accordance with the provisions of the Privacy Act, as amended, this notice announces the renewal of an existing computer matching program that SSA is currently conducting with HHS/ACF/OCSE.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefaxing to (410) 965-8582 or writing to the Associate Commissioner for Income Security Programs, 252 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: August 6, 2007.
Manuel J. Vaz,
Acting Deputy Commissioner for Disability and Income Security Programs.

Notice of Computer Matching Program, Social Security Administration (SSA) With the Health and Human Services (HHS)/Administration for Children and Families (ACF)/Office of Child Support Enforcement (OCSE)

A. Participating Agencies

SSA and OCSE.

B. Purpose of the Matching Program

The purpose of this matching program is to establish the conditions, terms and safeguards under which OCSE agrees to disclose quarterly wage and unemployment insurance data from their National Directory of New Hires database to SSA. This disclosure will provide SSA with information necessary to verify an individual's self-certification of eligibility for prescription drug subsidy assistance under section 1860D-14 of the Social Security Act (Act) 42 U.S.C. 1395w-114).

C. Authority for Conducting the Matching Program

The legal authority for SSA to conduct this matching activity is contained in section 1860D-14 (42 U.S.C. 1395w-114) of the Act.

D. Categories of Records and Individuals Covered by the Matching Program

1. Specified Data Elements Used in the Match

a. On the basis of certain identifying information as provided by SSA to OCSE, OCSE and SSA will conduct a computerized comparison of the quarterly wage payment and unemployment insurance benefit information in the National Directory of New Hires (NDNH) maintained by OCSE in its Location and Collection (LCS) system of records.

b. SSA will match this data against the Medicare database (MDB).

2. Systems of Records

The OCSE will provide SSA with electronic files containing quarterly wage and unemployment insurance data from its system of records, the Location and Collection System (ACF/OCSE, 09-90-0074). Pursuant to U.S.C. 552a(b)(3), OCSE has established routine use to disclose the subject information.

SSA will match the OCSE information with electronic files from its system of records, No. 60-0321, MDB (Medicare Database).

E. Inclusive Dates of the Matching Program

The matching program will become effective upon signing of the agreement by all parties to the agreement and approval of the agreement by the Data Integrity Boards of the respective agencies, but no sooner than 40 days after notice of the matching program is sent to Congress and the Office of Management and Budget, or 30 days after publication of this notice in the Federal Register, whichever date is later. The matching program will continue for 18 months from the effective date and may be extended for an additional 12 months thereafter, if certain conditions are met.

[FR Doc. E7-16472 Filed 8-20-07; 8:45 am]

BILLING CODE 4191-02-P